FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 13, 2008.

A. Federal Reserve Bank of Minneapolis (Jacqueline G. King, Community Affairs Officer) 90 Hennepin Avenue, Minneapolis, Minnesota 55480-0291:

1. David J. Schornack, and Denise N. Schornack, both of Perham, Minnesota; Daniel R. Welter, and Bonnie S. Welter, both of New York Mills, Minnesota, to acquire voting shares of Quality Bankshares, Inc., and thereby indirectly acquire voting shares of Quality Bank, both of Fingal, North Dakota.

B. Federal Reserve Bank of Kansas City (Todd Offenbacker, Assistant Vice President) 1 Memorial Drive, Kansas City, Missouri 64198-0001:

1. Robyn E. Batson, Broken Bow, Oklahoma, as trustee of the Linda Lake Young Irrevocable Trust, the Lori Lee Young Irrevocable Trust, and the Robyn Elizabeth Batson Irrevocable Trust, to acquire voting shares of Southeastern Bancshares, Inc., and thereby indirectly acquire voting shares of 1st Bank & Trust, both in Broken Bow, Oklahoma.

C. Federal Reserve Bank of Dallas (W. Arthur Tribble, Vice President) 2200 North Pearl Street, Dallas, Texas 75201-2272:

1. John Mangan, San Antonio, Texas, as independent trustee of the LCK 1993 Trust, LCK Dynasty Trust, LCK Legacy Trust, the Katz Millennium Trust, and LCK Trust Number 2, to acquire voting shares of First Community Bancshares, Inc., Houston, Texas, and thereby indirectly acquire voting shares of First National Bank Texas, Killeen, Texas, and Fort Hood National Bank, Fort Hood, Texas.

Board of Governors of the Federal Reserve System, July 24, 2008.
Robert deV. Frierson,
Deputy Secretary of the Board.

[FR Doc. E8-17355 Filed 7-28-08; 8:45 am]

BILLING CODE 6210-01-S